DEPARTMENT OF LABOR

Employment and Training Administration

[TA-W-41,694]

Joy Mining Machinery, Mount Vernon, IL; Notice of Termination of Investigation

Pursuant to section 221 of the Trade Act of 1974, an investigation was initiated on June 24, 2002 in response to a petition filed by the Union on behalf of workers at Joy Mining Machinery, Mount Vernon, Illinois.

All workers were separated from the subject firm one year prior to the date of the petition. Section 223 of the Act specifies that no certification may apply to any worker whose last separation occurred more than one year before the date of the petition.

Consequently, further investigation in this case would serve no purpose, and the investigation has been terminated.

Signed in Washington, DC, this 19th day of August 2002.
Elliott S. Kushner,
Certifying Officer, Division of Trade Adjustment Assistance.

[FR Doc. 02-24115 Filed 9-20-02; 8:45 am]

BILLING CODE 4510-30-P